Proclamation 7788 of May 14, 2004

World Trade Week, 2004

By the President of the United States of America

A Proclamation

Participating in the world economy makes America's economy stronger. By opening new markets for American products and services, bringing lower prices and more choices to American consumers, and attracting foreign companies to invest and hire in the United States, free and fair trade helps create better jobs for American workers. During World Trade Week, we celebrate the benefits trade brings to our citizens, our economy, and to countries and people around the world.

Since World War II, the United States has led the world in advancing trade to create jobs for American workers, increase choice for consumers, and ensure that quality American goods and services are sold on every continent. Today, millions of American jobs depend on our goods and services being sold overseas, and foreign-owned companies and their suppliers employ millions of Americans here at home.

My Administration has aggressively negotiated trade agreements that slash foreign tariffs and remove the barriers to selling American goods and services around the world. Since 2001, we have entered into free trade agreements with Chile and Singapore and concluded negotiations with Australia, Morocco, the Dominican Republic, and five countries in Central America. Free trade agreement negotiations with Colombia, Ecuador, Peru, Panama, Bahrain, Thailand, and five member countries of the Southern African Customs Union are in progress or about to begin. We are also working with our neighbors in the Western Hemisphere to create a Free Trade Area of the Americas that will form the world's largest common market and improve the lives of citizens in America and these countries. By opening foreign markets to American exports and encouraging foreign countries to set up operations in the United States, all of these agreements help create more and better jobs in our Nation. They also help increase prosperity for our workers.

For American businesses and their employees to continue to outperform other countries, America must remain the best place to do business and invest capital. In addition, we must ensure that our citizens are prepared for the high-skilled jobs our economy is creating. By fostering an environment where the entrepreneurial spirit flourishes and by providing workers with the best skills and education in the world, we can maintain our country's economic leadership and help all our citizens achieve a better life.

NOW, THEREFORE, I, GEORGE W. BUSH, President of the United States of America, by virtue of the authority vested in me by the Constitution and laws of the United States, do hereby proclaim May 16 through May 22, 2004, as World Trade Week. I encourage all Americans to observe this week with events, trade shows, and educational programs that celebrate the benefits of trade to our Nation and the global economy.

IN WITNESS WHEREOF, I have hereunto set my hand this fourteenth day of May, in the year of our Lord two thousand four, and of the Independence of the United States of America the two hundred and twenty-eighth.

B

[FR Doc. 04-11463

Filed 5-18-04; 8:45 am]

Billing code 3195-01-P